ENVIRONMENTAL PROTECTION AGENCY

40 CFR Part 81

[EPA-R06-OAR-2016-0275; FRL-9957-57-Region 6]

Determination of Nonattainment and Reclassification of the Houston-Galveston-Brazoria 2008 8-Hour Ozone Nonattainment Area; Texas; Correction

AGENCY: Environmental Protection Agency (EPA).

ACTION: Correcting amendment.

SUMMARY: EPA issued a final rule on December 14, 2016, (81 FR 90207), that determined that the Houston-Galveston-Brazoria, Texas nonattainment area (HGB area) failed to attain the 2008 8-hour ozone national ambient air quality standard (NAAQS) by the applicable attainment deadline of July 20, 2016, and thus was classified by operation of law as “Moderate”. In that action, EPA also determined January 1, 2017 as the deadline by which Texas must submit to the EPA the State Implementation Plan (SIP) revisions that meet the Clean Air Act (CAA) statutory and regulatory requirements that apply to 2008 ozone NAAQS nonattainment areas reclassified as Moderate. The language in the December 14, 2016 Federal Register amended the table in 40 CFR 81.344 (Subpart C-Section 107 Attainment Status Designations) titled “Texas—2008 8-Hour Ozone NAAQS (Primary and secondary)”. The amendatory language failed to update the table for the classification date for HGB nonattainment area to 12/14/2016. This document corrects the listed classification date in the December 14, 2016 final rule document.

DATES: This final rule correction is effective on January 11, 2017.

FOR FURTHER INFORMATION CONTACT: Ms. Nevine Salem, (214) 665-7222, salem.nevine@epa.gov.

SUPPLEMENTARY INFORMATION: EPA issued a final rule on December 14, 2016, (81 FR 90207) (EPA-R06-OAR-2016-0275; FRL-9956-08-Region 6), that reclassified the HGB nonattainment area from Marginal to Moderate for the 2008 8-hour Ozone NAAQS standards. In that document, EPA incorrectly listed the classification date for the HGB ozone nonattainment area in § 81.344, the table titled “Texas—2008 8-Hour Ozone NAAQS (Primary and secondary)” to be 1/13/17. Instead the document should have the classification date in the table as 12/14/2016. This document corrects that mistake.

List of Subjects in 40 CFR Part 81

Environmental protection, Air pollution control.

Dated: January 3, 2017.
Ron Curry,
Regional Administrator, Region 6.

40 CFR part 81 is corrected as follows:

PART 81-DESIGNATION OF AREAS FOR AIR QUALITY PLANNING PURPOSES

1. The authority citation for part 81 continues to read as follows:

Authority: 42 U.S.C. 7401 et seq.

Subpart C—Section 107 Attainment Status Designations

2. In § 81.344, the table titled “Texas—2008 8-Hour Ozone NAAQS (Primary and secondary)” is amended by revising the entry for “Houston-Galveston-Brazoria, TX” to read as follows:

§ 81.344 Texas.

* * * * *

Texas—2008 8-Hour Ozone NAAQS (Primary and Secondary) ²
Designated area | Designation: Date¹ | Designation: Type | Classification: Date¹ | Classification: Type
* * * * * * *
Houston-Galveston-Brazoria, TX: ² |  | Nonattainment | 12/14/2016 | Moderate.
Brazoria County
Chambers County
Fort Bend County
Galveston County
Harris County
Liberty County
Montgomery County
Waller County
* * * * * * *
¹ This date is July 20, 2012, unless otherwise noted.
² Excludes Indian country located in each area, unless otherwise noted.

* * * * *

[FR Doc. 2017-00086 Filed 1-10-17; 8:45 am]

BILLING CODE 6560-50-P